DEPARTMENT OF HEALTH AND HUMAN SERVICES

Health Resources and Services Administration

National Advisory Council on Nurse Education and Practice; Notice of Meeting

In accordance with section 10(a)(2) of the Federal Advisory Committee Act (Pub. L. 92-463), notice is hereby given of the following advisory committee meeting. The meeting is open to the public.

Name: National Advisory Council on Nurse Education and Practice.

Date and Time: November 7, 2002, 8:30 a..m.-5 p.m., November 8, 2002, 8:30 a.m.-3 p.m.

Place: The Hotel Washington, Pennsylvania Avenue, NW at 15th St., Washington, DC 20004.

Agenda: Agency, Bureau and Division administrative updates. Overview of the Nurse Reinvestment Act, Pub. L. 107-205; staff legislative workgroup reports; and Council workgroup sessions with discussion and recommendations for implementation of legislation. Presentations and discussion of bioterrorism workforce issues with focus on nursing. Reports of the Institute of Medicine Health Professions Summit meeting with discussion regarding future interdisciplinary activities and report of the Development of a Funding Methodology for the Allocation of Title VIII Funds: Phase II.

For Further Information Contact:Anyone interested in obtaining a roster of members, minutes of the meeting, or other relevant information should write or contact Ms. Elaine G. Cohen, Executive Secretary, National Advisory Council on Nurse Education and Practice, Parklawn Building, Room 9-35, 5600 Fishers Lane, Rockville, Maryland 20857, telephone (301) 443-1405.

Dated: October 17, 2002.
Jane M. Harrison,
Director, Division of Policy Review and Coordination.

[FR Doc. 02-26916 Filed 10-22-02; 8:45 am]

BILLING CODE 4165-15-P